DEPARTMENT OF THE INTERIOR

Bureau of Land Management

[L14200000.BJ0000-LLNM915000-2009]

Notice of Filing of Plats of Survey; New Mexico and Oklahoma

AGENCY: Bureau of Land Management, Interior.

ACTION: Notice of Filing of Plats of Survey.

SUMMARY: The plats of survey described below are scheduled to be officially filed in the New Mexico State Office, Bureau of Land Management (BLM), Santa Fe, New Mexico, 30 calendar days from the date of this publication

SUPPLEMENTARY INFORMATION:

New Mexico Principal Meridian, New Mexico

The plat representing metes-and-bounds survey of certain lot lines in secs. 19, 20, and 21, Township 20 North, Range 7 East of the New Mexico Principal Meridian, New Mexico accepted November 26, 2008, for Group 1067 NM.

The plat representing the dependent resurvey of a portion of the east and the west boundary, subdivisional lines, certain tracts and subdivision of secs. 17 and 18, Township 19 North, Range 6 East, of the New Mexico Principal Meridian, New Mexico accepted November 26, 2008, for Group 1067 NM.

Indian Meridian, Oklahoma

The plat representing the dependent resurvey of a portion of the west boundary, subdivisional lines, subdivision sec. 19, survey of the Illinois River and metes-and-bounds survey of certain Indian Trust Lands in sec. 19, Township 17 North, Range 23 East of the Indian Meridian, Oklahoma, accepted January 8, 2009 for Group 143 OK.

The plat representing the dependent resurvey of a portion of the subdivisional lines, the survey of the Washita River and a portion of the subdivision of sec. 10, Township 7 North, Range 9 West, of the Indian Meridian, Oklahoma, accepted September 30, 2008, for Group 144 OK.

The plat representing the dependent resurvey of a portion of the subdivisional lines, survey of the Washita River, the subdivision and metes-and-bounds survey in sec. 15, Township 7 North, Range 10 West, of the Indian Meridian, Oklahoma, accepted September 30, 2008, for Group 150 OK.

The plat representing the dependent resurvey of a portion of the First Guide Meridian West, subdivisional lines, the subdivision and metes-and-bounds survey of sec. 7, Township 2 South, Range 4 West, of the Indian Meridian, Oklahoma, accepted September 30, 2008, for Group 166 OK.

The plat representing the dependent resurvey of a portion of the east boundary, subdivisional lines, and survey of the Canadian River in sec. 25, Township 5 North, Range 7 East, of the Indian Meridian, Oklahoma, accepted September 30, 2008, for Group 167 OK.

The plat representing the dependent resurvey of a portion of the boundary between the States of Oklahoma, Missouri, and Kansas, subdivisional lines, a portion of the subdivision and metes-and-bounds survey of sec. 17, Township 29 North, Range 25 East, of the Indian Meridian, Oklahoma, accepted January 15, 2009, for Group 169 OK.

The plat representing the dependent resurvey of a portion of the north boundary, and subdivisional lines, the subdivision and metes-and-bounds survey of a certain parcel in sec. 3, Township 9 North, Range 10 West, of the Indian Meridian, Oklahoma, accepted January 8, 2009, for Group 170 OK.The plat representing the dependent resurvey of a portion of the north boundary, the subdivisional lines, portions of the subdivision of secs., 4, 5, 9 and 10, and portions of a metes-and-bounds survey in secs., 4, 5, 9 and 10, Township 7 North, Range 10 West, of the Indian Meridian, Oklahoma, accepted January 8, 2009, for Group 170 OK.

The plat representing the dependent resurvey of a portion of the subdivisional lines, and survey of the Salt Fork of the Arkansas River sec. 14, Township 27 North, Range 10 West, of the Indian Meridian, Oklahoma, accepted December 11, 2008, for Group 177 OK.

If a protest against a survey, in accordance with 43 CFR 4.450-2, of the above plat is received prior to the date of official filing, the filing will be stayed pending consideration of the protest. A plat will not be officially filed until the day after all protests have been addressed. A person or party who wishes to protest against this survey must file a written protest with the New Mexico State Director, Bureau of Land Management at the address below, stating that they wish to protest. A statement of reasons for a protest may be filed with the notice of protest to the State Director, or the statement of reasons must be filed with the State Director within thirty days after the protest is filed.

FOR FURTHER INFORMATION CONTACT: These plats will be available for inspection in the New Mexico State Office, Bureau of Land Management, P.O. Box 27115, Santa Fe, New Mexico 87502-0115. Fiche copies may be obtained from this office upon payment of $1.10 per sheet. Contact Marcella Montoya at 505-438-7537, or Marcella_Montoya@nm.blm.gov, for assistance.

Robert A. Casias,
Chief Cadastral Surveyor for New Mexico.

[FR Doc. E9-2007 Filed 1-29-09; 8:45 am]

BILLING CODE 4310-FB-P